DEPARTMENT OF AGRICULTURE

Forest Service

Information Collection: Special Use Administration

AGENCY: Forest Service, Agriculture (USDA).

ACTION: Notice; correction.

SUMMARY: The Forest Service (Forest Service), United States Department of Agriculture, published a notice of an information collection for public comment in the Federal Register on February 15, 2023. The Forest Service is correcting the ADDRESSES section of that notice.

DATES: Comments must be received in writing by April 17, 2023.

ADDRESSES: Comments concerning this notice should be addressed to USDA Forest Service, Attention: Lands Special Uses, 1400 Independence Avenue SW, Stop 1124, Washington, DC 20250-1124. Comments also may be submitted via facsimile to 202-644-4700 or by email to reply_lands_staff@usda.gov. All comments, including names and addresses when provided, will be placed in the record and will be available for public inspection and copying.

SUPPLEMENTARY INFORMATION: The Forest Service is correcting the ADDRESSES section of a notice for an information collection that was published for public comment in the Federal Register on February 15, 2023 (88 FR 9856) under the Paperwork Reduction Act of 1995 (notice). The notice seeks public comment on reapproval (with no revision) of an approved information collection, Standard Form-299 (SF-299), Application for Transportation, Utility Systems, Telecommunications and Facilities on Federal Lands and Property. The ADDRESSES section of the notice is corrected by removing it in its entirety and replacing it with the following: “Comments concerning this notice should be addressed to USDA Forest Service, Attention: Lands Special Uses, 1400 Independence Avenue SW, Stop 1124, Washington, DC 20250-1124. Comments also may be submitted via facsimile to 202-644-4700 or by email to reply_lands_staff@usda.gov. All comments, including names and addresses when provided, will be placed in the record and will be available for public inspection and copying.”

Dated: March 22, 2023.
Troy Heithecker,
Associate Deputy Chief, National Forest System.

[FR Doc. 2023-06352 Filed 3-27-23; 8:45 am]

BILLING CODE 3411-15-P